DEPARTMENT OF COMMERCE

National Oceanic and Atmospheric Administration

[I.D. 100404G]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene its Ad Hoc Red Snapper Advisory Panel (AP) to review public comments on the Individual Fishing Quota (IFQ) profile.

DATES: The Council's Ad Hoc Red Snapper AP will convene from 8 a.m. on October 26, 2004, and conclude no later that 5 p.m. on October 27, 2004.

ADDRESSES: The meeting will be held at the New Orleans Airport Plaza Hotel and Conference Center, 2150 Veterans Boulevard, Kenner, LA 70062; telephone: (504) 467-3111.

Council address: Gulf of Mexico Fishery Management Council, 3018 North U.S. Highway 301, Suite 1000, Tampa, FL 33619.

FOR FURTHER INFORMATION CONTACT: Wayne Swingle, Executive Director, Gulf of Mexico Fishery Management Council; telephone: (813) 228-2815.

SUPPLEMENTARY INFORMATION: The Council's AP will convene to review public comment on an individual fishing quota (IFQ) scoping document, and to develop their recommendations to the Council on the alternatives that should become rules regulating the IFQ process. The AP consists of persons in the commercial red snapper fishery that are dealers or fishermen holding either Class 1 or Class 2 commercial red snapper vessel licenses. The AP also has four non-voting members representing law enforcement, academia, red snapper biological assessment, and the environmental community. An IFQ program would be used to allocate shares of the commercial red snapper quota to all fishermen with records of landings. Each fisherman's share would be based on his landing records from the trip tickets filed with NMFS. The IFQ shares will be transferrable to other fishermen. The IFQ profile includes alternatives for regulating the IFQ program that were reviewed by the public at scoping hearings held in August 2004.

Although other non-emergency issues not on the agendas may be discussed by the AP, in accordance with the Magnuson-Stevens Fishery Conservation and Management Act, those issues may not be the subject of formal action during these meetings. Actions of the AP will be restricted to those issues specifically identified in the agendas and any issues arising after publication of this notice that require emergency action under section 305(c) of the Act, provided the public has been notified of the Council's intent to take action to address the emergency.

Special Accommodations

Requests for sign language interpretation or other auxiliary aids should be directed to Dawn Aring at the Council office (see ADDRESSES) by October 18, 2004.

Dated: October 5, 2004.
Alan D. Risenhoover,
Acting Director, Office of Sustainable Fisheries, National Marine Fisheries Service.

[FR Doc. E4-2559 Filed 10-7-04; 8:45 am]

BILLING CODE 3510-22-S